DEPARTMENT OF COMMERCE

Foreign-Trade Zones Board

Order No. 1387

Approval for Manufacturing Authority, Diebold, Inc., (Automated Teller Machines), Within Foreign-Trade Zone 230, Lexington, North Carolina

Pursuant to its authority under the Foreign-Trade Zones Act of June 18, 1934, as amended (19 U.S.C. 81a-81u), the Foreign-Trade Zones Board (the Board) adopts the following Order:

Whereas, the Piedmont Triad Partnership, grantee of Foreign-Trade Zone 230, has requested authority under § 400.32(b)(2) of the Board's regulations on behalf of Diebold, Inc. to manufacture automated teller machines under zone procedures within Site 1 of FTZ 230 in Lexington, North Carolina (FTZ Docket 42-2004, filed September 16, 2004);

Whereas, notice inviting public comment has been given in the Federal Register (69 FR 57262-57263, 9/24/04); and,

Whereas, the Board adopts the findings and recommendations of the examiner's report, and finds that the requirements of the FTZ Act and Board's regulations are satisfied, and that approval of the application is in the public interest;

Now, therefore, the Board hereby grants authority for the manufacture of automated teller machines within Site 1 of FTZ 230, as described in the application, subject to the FTZ Act and the Board's regulations, including Sec. 400.28.

Signed at Washington, DC, this 20th day of April 2005.

Joseph A. Spetrini,
Acting Assistant Secretaryfor Import Administration, Alternate Chairman, Foreign-Trade Zones Board.
Attest:
Dennis Puccinelli,
Executive Secretary.

[FR Doc. 05-8700 Filed 4-29-05; 8:45 am]

BILLING CODE 3510-DS-S